SMALL BUSINESS ADMINISTRATION

[Disaster Declaration #11684 and #11685]

New York Disaster #NY-00071

AGENCY: Small Business Administration

ACTION: Notice.

SUMMARY: This is a Notice of the Presidential declaration of a major disaster for Public Assistance Only for the State of New York (FEMA-1827-DR), dated 03/04/2009.

Incident: Severe Winter Storm.

Incident Period: 12/11/2008 through 12/31/2008.

Effective Date: 03/04/2009.

Physical Loan Application Deadline Date: 05/04/2009.

Economic Injury (Eidl) Loan Application Deadline Date: 12/04/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 03/04/2009, private non-profit organizations that provide essential services of governmental nature may file disaster loan applications at the address listed above or other locally announced locations.

The following areas have been determined to be adversely affected by the disaster:

Primary Counties:

Albany, Columbia, Delaware, Greene, Rensselaer, Saratoga, Schenectady, Schoharie, Washington.

The Interest Rates are:

| Percent
Other (Including Non-Profit Organizations) With Credit Available Elsewhere | 4.500
Businesses And Non-Profit Organizations Without Credit Available Elsewhere | 4.000
The number assigned to this disaster for physical damage is 11684B and for economic injury is 11685B.

(Catalog of Federal Domestic Assistance Numbers 59002 and 59008)

Herbert L. Mitchell,
Associate Administrator for Disaster Assistance.

[FR Doc. E9-5159 Filed 3-10-09; 8:45 am]

BILLING CODE 8025-01-P